DEPARTMENT OF ENERGY

Federal Energy Regulatory Commission

[Project No. 14967-000]

Renewable Energy Aggregators; Notice of Preliminary Permit Application Accepted for Filing and Soliciting Comments, Motions To Intervene, and Competing Applications

On February 25, 2019, Renewable Energy Aggregators, filed an application for a preliminary permit, pursuant to section 4(f) of the Federal Power Act (FPA), proposing to study the feasibility of the Freestone Pumped Storage Hydro Project (Freestone Project or project) to be located at Nickajack Lake, near the town of Trenton, in Dade County, Georgia. The sole purpose of a preliminary permit, if issued, is to grant the permit holder priority to file a license application during the permit term. A preliminary permit does not authorize the permit holder to perform any land-disturbing activities or otherwise enter upon lands or waters owned by others without the owners' express permission.

The proposed project would consist of the following: (1) A roller compacted concrete or earth and rock upper dam; (2) an upper reservoir with a surface area of 84 acres and a storage capacity of 1,258.92 acre-feet; (3) a 48-inch-diameter, 3,158-foot-long penstock; (4) a 25-foot-high, 150-foot-long, and 50-foot-wide powerhouse containing one unit with a capacity of 80 megawatts; (5) a lower reservoir (Nickajack Lake) with a surface area of 31.4 acres, and a storage capacity of 1,883.87 acre-feet; (6) a substation; and (7) a 1-mile-long transmission line from the substation to the point of interconnection.

The proposed project would have an estimated average annual generation of 351,483 megawatt-hours.

Applicant Contact: Adam Rousselle, Renewable Energy Aggregators, 5710 Oak Crest Drive, Doylestown Pennsylvania 18902; phone: (215) 485-1708.

FERC Contact: Michael Spencer, (202) 502-6093, michael.spencer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. The first page of any filing should include docket number P-14967-000.

More information about this project, including a copy of the application, can be viewed or printed on the eLibrary” link of Commission's website at http://www.ferc.gov/docs-filing/elibrary.asp. Enter the docket number (P-14967) in the docket number field to access the document. For assistance, contact FERC Online Support.

Dated: May 9, 2019.
Kimberly D. Bose,
Secretary.

[FR Doc. 2019-10050 Filed 5-14-19; 8:45 am]

BILLING CODE 6717-01-P